DEPARTMENT OF ENERGY

[OE Docket No. EA-284-F]

Application to Export Electric Energy; Calpine Energy Solutions, LLC

AGENCY: Office of Electricity, Department of Energy.

ACTION: Notice of application.

SUMMARY: Calpine Energy Solutions, LLC (Applicant or Calpine Solutions) (formerly known as Noble Americas Energy Solutions LLC) has applied to renew its authorization to transmit electric energy from the United States to Mexico pursuant to the Federal Power Act.

DATES: Comments, protests, or motions to intervene must be submitted on or before December 12, 2019.

ADDRESSES: Comments, protests, motions to intervene, or requests for more information should be addressed to: Office of Electricity, Mail Code: OE-20, U.S. Department of Energy, 1000 Independence Avenue SW, Washington, DC 20585-0350. Because of delays in handling conventional mail, it is recommended that documents be transmitted by overnight mail, by electronic mail to Electricity.Exports@hq.doe.gov, or by facsimile to (202) 586-8008.

SUPPLEMENTARY INFORMATION: The Department of Energy (DOE) regulates exports of electric energy from the United States to a foreign country, pursuant to sections 301(b) and 402(f) of the Department of Energy Organization Act (42 U.S.C. 7151(b) and 7172(f)). Such exports require authorization under section 202(e) of the Federal Power Act (16 U.S.C. 824a(e)).

On January 27, 2015, DOE issued Order No. EA-284-D, which renewed the authorization of Noble Americas Solutions LLC (Noble Americas) to transmit electric energy from the United States to Mexico as a power marketer for a five-year term using existing international transmission facilities. On January 11, 2017, DOE issued Order No. EA-284-E, recognizing that Noble Americas changed its name to Calpine Energy Solutions, LLC (Calpine Solutions). The authorization issued to Calpine Solutions f/k/a Noble Americas expires on January 29, 2020. On October 16, 2019, Calpine Solutions filed an application with DOE (Application or App.) for renewal of the export authorization contained in Order No. EA-284-D (as amended in Order No. EA-284-E) for an additional five-year term.

The Application states that “Calpine Solutions does not have a franchised utility service area” and that “Calpine Solutions proposes to continue to export electric power through the existing facilities of [San Diego Gas & Electric Company] and [Comisión Federal de Electricidad].” App. at 3. The electric energy that the Applicant proposes to export to Mexico would be purchased from “electric utilities, merchant generators, energy brokers, and federal power marketing agencies.” Id. The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214). Five (5) copies of such comments, protests, or motions to intervene should be sent to the address provided above on or before the date listed above.

Comments and other filings concerning the Application should be clearly marked with OE Docket No. EA-284-F. An additional copy is to be provided directly to Sarah Novosel, Calpine Corporation, 875 15th Street NW, Suite 700, Washington, DC 20005, and Greg Bass, Calpine Energy Solutions, LLC, 401 West A Street, Suite 500, San Diego, CA 92101.

A final decision will be made on the Application after the environmental impacts have been evaluated pursuant to DOE's National Environmental Policy Act Implementing Procedures (10 CFR part 1021) and after DOE determines that the proposed action will not have an adverse impact on the sufficiency of supply or reliability of the U.S. electric power supply system.

Copies of the Application will be made available, upon request, for public inspection and copying at the address provided above, by accessing the program website at http://energy.gov/node/11845, or by emailing Angela Troy at Angela.Troy@hq.doe.gov.

Signed in Washington, DC, on November 5, 2019.
Christopher Lawrence,
Management and Program Analyst, Transmission Permitting and Technical Assistance, Office of Electricity.

[FR Doc. 2019-24533 Filed 11-8-19; 8:45 am]

BILLING CODE 6450-01-P